DEPARTMENT OF THE INTERIOR

Fish and Wildlife Service

[FWS-R2-ES-2011-N115; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before July 18, 2011.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-046517

Applicant: United States Geological Survey, New Mexico Cooperative Unit, Las Cruces, New Mexico.

Applicant requests a new permit to hold and rear captive Rio Grande silvery minnows (Hybognathus amarus) and bonytail chub (Gila elegans) at the rearing facility at New Mexico State Universtiy.

Permit TE-42737A

Applicant: Sevenecoten, LLC, Dripping Springs, Texas.

Applicant requests a new permit for research and recovery purposes to conduct presence/absence surveys for golden-cheeked warbler (Dendroica chrysoparia) and black-capped vireo (Vireo atricapilla) within Texas.

Permit TE-150490

Applicant: Sea Life Arizona, Tempe, Arizona.

Applicant requests a new permit for research and recovery purposes to hold and display for educational purposes the following native fish: woundfin (Plagopterus argentissimus), bonytail (Gila elegans), Colorado pikeminnow (Ptychocheilus lucius), desert pupfish (Cyprinodon macularius), Gila chub (Gila intermedia), Gila topminnow (Poeciliopsis occidentalis occidentalis), humpback chub (Gila cypha), razorback sucker (Xyrauchen texanus), Yaqui chub (Gila purpea), Yaqui sucker (Catostomus bernardini), and Yaqui topminnow (Poeciliopsis occidentalis sonoriensis) within the Aquarium.

Permit TE-42823A

Applicant: Wiebke Boeing, Las Cruces, New Mexico.

Applicant requests a new permit for research and recovery purposes to conduct presence/absence surveys for Pecos gambusia (Gambusia nobilis), Roswell springsnail (Pyrgulopsis roswellensis), Koster's springsnail (Juturnia kosteri), and Noel's amphipod (Gammarus desperatus) in sinkholes of the Bitter Lake National Wildlife Refuge, Roswell, New Mexico.

Permit TE-051819

Applicant: Fort Worth Zoo, Fort Worth, Texas.

Applicant requests a renewal to a current permit for research and recovery purposes to hold, conduct husbandry activities, and captively breed the following species: Barton Springs salamander (Eurycea sosorum), Houston toad (Bufo houstonensis), and black-footed ferret (Mustela nigripes) within the Fort Worth Zoo.

Permit TE-43719A

Applicant: Desert Botanical Garden, Phoenix, Arizona.

Applicant requests a new permit for research and recovery purposes to conduct presence/absence surveys, collect samples, and conduct genetic analysis of Huachuca water umbel (Lilaeopsis schaffneriana var. recurva) and Arizona hedgehog cactu (Echinocereus triglochidiatus var. arizonicus) within Arizona and at the botanical garden.

Permit TE-43746A

Applicant: Northern Arizona University, Flagstaff, Arizona.

Applicant requests a new permit for research and recovery purposes to conduct presence/absence surveys for southwestern willow flycatcher (Empidonax traillii extimus) within Arizona.

Permit TE-800923

Applicant: University of Arizona, Tucson, Arizona.

Applicant requests a new permit for research and recovery purposes to conduct presence/absence surveys, collect genetic samples, and captively hold the following species: Colorado pikeminnow (Ptychocheilus lucius), desert pupfish (Cyprinodon macularius), Gila topminnow (Poecciliopsis occidentalis), and Gila chub (Gila intermedia) within Arizona.

Permit TE-43777A

Applicant: Sea Life US, LLC, Grapevine, Texas.

Applicant requests a new permit for husbandry and holding of green sea turtles (Chelonia mydas) and Kemps ridley sea turtles (Lepidochelys kempii) at the Sea Life Aquarium in Texas.

Permit TE-172278

Applicant: John C. Abbott, Austin, Texas.

Applicant requests a new permit for research and recovery purposes to conduct presence/absence surveys for American burying beetle (Nicrophorus americanus) within the Camp Maxey National Guard facility in Texas.

Permit TE-44306A

Applicant: United States Geological Survey, Bozeman, Montana.

Applicant requests a new permit for research and recovery purposes to conduct a study on the effects of electricity on growth and reproduction of razorback suckers (Xyrauchen texanus) at the Uvalde National Fish Hatchery in Texas.

Permit TE-026711

Applicant: Coconino National Forest, Flagstaff, Arizona.

Applicant requests a new permit for research and recovery purposes to conduct presence/absence surveys for the following species: southwestern willow flycatcher (Empidonax traillii extimus), Yuma clapper rail (Rallus longirostris yumanensis), Gila topminnow (Poeciliopsis occidentalis occidentalis), razorback sucker (Xyrauchen texanus), black-footed ferret (Mustela nigripes), Arizona cliffrose (Purshia subintegra), and Gila chub (Gila intermedia) within Arizona.

Permit TE-118414

Applicant: Cherokee Nation, Tahlequah, Oklahoma.

Applicant requests a new permit for research and recovery purposes to conduct presence/absence surveys for American burying beetle (Nicrophorus americanus) within Oklahoma.

Permit TE-829995

Applicant: Dallas Zoo and Aquarium, Dallas, Texas.

Applicant requests an amendment to hold, conduct husbandry activities, and captively breed Houston toads (Bufo houstonensis) within the zoo.

Permit TE-207369

Applicant: U.S. Army Garrison—Fort Huachuca, Fort Huachuca, Arizona.

Applicant requests an amendment to a current permit for research and recovery purposes to conduct presence/absence surveys, collect samples, and conduct genetic analysis of Huachuca water umbel (Lilaeopsis schaffneriana var. recurva) and to conduct presence/absence surveys of southwestern willow flycatcher (Empidonax traillii extimus) within Arizona.

Authority: 16 U.S.C. 1531 et seq.

Dated: June 8, 2011.
Joy E. Nicholopoulos,
(Acting) Regional Director, Southwest Region, Fish and Wildlife Service.

[FR Doc. 2011-14927 Filed 6-15-11; 8:45 am]

BILLING CODE 4310-55-P